DEPARTMENT OF AGRICULTURE

Agricultural Marketing Service

7 CFR Part 1280

RIN 0581-AC06

Lamb Promotion, Research, and Information Order; Correction

AGENCY: Agricultural Marketing Service, Department of Agriculture.

ACTION: Proposed rule; correction.

SUMMARY: This document corrects the Supplementary Information to a proposed rule published in the Federal Register on October 5, 2020, regarding amendments to the Lamb Promotion, Research, and Information Order. This correction clarifies the assessment remittance process described in Examples 1 and 2 and removes the first paragraph in Example 5.

DATES: Comments must be received by December 4, 2020.

FOR FURTHER INFORMATION CONTACT: Jason Julian, Agricultural Marketing Specialist, Research and Promotion Division, Livestock and Poultry Program, AMS, USDA; telephone: (202) 731-2149; fax: (202) 720-1125; or email: jason.julian@usda.gov.

SUPPLEMENTARY INFORMATION:

Correction

In the proposed rule published at 85 FR 62617, beginning on page 62617 of the issue published on October 5, 2020, make the following corrections in the Supplementary Information section.

1. On page 62618, in the third column, second paragraph, replace the final sentence with the following:

“This procedure would change under the proposed rule.”

2. On page 62619, in the first column, replace the first paragraph with the following:

“Under the proposed rule, existing procedures in Example 1 and Example 2 would be replaced as shown in the following three scenarios.”

3. On page 62620, in the first column, remove the first paragraph.

Bruce Summers,
Administrator, Agricultural Marketing Service.

[FR Doc. 2020-24754 Filed 11-6-20; 8:45 am]

BILLING CODE P